SOCIAL SECURITY ADMINISTRATION

20 CFR Part 421

[Docket No. SSA-2016-0011]

RIN 0960-AH95

Implementation of the NICS Improvement Amendments Act of 2007

AGENCY: Social Security Administration.

ACTION: Final rule; CRA Revocation.

SUMMARY: We are removing from the Code of Federal Regulations the final rules, Implementation of the NICS Improvement Amendments Act of 2007 (NIAA), published on December 19, 2016. We are doing so because Congress passed, and the President signed, a joint resolution of disapproval of the final rules under the Congressional Review Act.

DATES: This rule removal is effective on May 18, 2017.

FOR FURTHER INFORMATION CONTACT: Social Security Administration, 410-965-3735 or Regulations@ssa.gov. For information on eligibility or filing for benefits, call our national toll-free number, 1-800-772-1213 or TTY 1-800-325-0778, or visit our Internet site, Social Security Online, at http://www.socialsecurity.gov.

SUPPLEMENTARY INFORMATION: On May 5, 2016, we published a notice of proposed rulemaking (NPRM) in the Federal Register (81 FR 27059) in which we proposed adding part 421 to our regulations to fulfill responsibilities that we have under the NIAA. On December 19, 2016, we published a final rule (81 FR 91702) for the Implementation of the NICS Improvement Amendments Act of 2007 (NIAA), which had an effective date of January 18, 2017.¹ On February 2, 2017, the United States House of Representatives passed H.J. Res. 40, “Providing for congressional disapproval under chapter 8 of title 5, United States Code, of the rule submitted by the Social Security Administration relating to Implementation of the NICS Improvement Amendments Act of 2007 (NIAA).”.² On February 15, 2017, the United States Senate passed H.J. Res. 40 without amendment,³ and the President signed H.J. Res. 40 into law on February 28, 2017.⁴ Under the terms of Public Law 115-8, the final rules “shall have no force or effect.” As a result, we are removing them from the Code of Federal Regulations.

¹ Although the final rule had an effective date of January 18, 2017, we delayed the compliance date of the rule until December 19, 2017 (81 FR at 91720). Therefore, we did not report any records to the National Instant Criminal Background Check System (NICS) pursuant to the final rule.

² 163 Cong. Rec. H916 (daily ed. Feb. 2, 2017).

³ 163 Cong. Rec. S1169 (daily ed. Feb. 15, 2017).

⁴ Public Law 115-8, 131 Stat. 15.

Authority for removal: This document was prepared under the direction of Nancy A. Berryhill, Acting Commissioner of Social Security. We issued it under the authority of section 702 of the Social Security Act (42 U.S.C. 902(a)(5)), and Public Law 115-8, 131 Stat. 15.

List of Subjects in 20 CFR Part 421

Administrative practice and procedure, Freedom of information, Privacy, Reporting and recordkeeping requirements.

Nancy A. Berryhill,
Acting Commissioner of Social Security.

Under the authority of section 702 of the Social Security Act (42 U.S.C. 902(a)(5)), the Congressional Review Act (5 U.S.C. 801 et seq.), and Public Law 115-8, 131 Stat. 15, and for the reasons set out in the preamble, we amend title 20, chapter III, of the Code of Federal Regulations as follows:

PART 421—[REMOVED]

1. Remove part 421, consisting of §§ 421.100 through 421.170.

[FR Doc. 2017-10084 Filed 5-17-17; 8:45 am]

BILLING CODE 4191-02-P